DEPARTMENT OF HEALTH AND HUMAN SERVICES

National Institutes of Health

Notice of Correction

The National Institutes of Health NIH published in the Federal Register on July 18, 2014 a notice titled “Proposed Collection; 60-Day Comment Request; A Generic Submission for Formative Research, Pre-Testing, Stakeholder Measures and Advocate Forms at NCI” [79 FR 42023]. The notice contained an incorrect email address for Kelley Landy, Acting Director of the Office of Advocacy Relations. The correct email address is kelley.landy@nih.gov.

Dated: July 28, 2014.
Cynthia Chaves,
NIH Federal Register Liaison.

[FR Doc. 2014-18087 Filed 7-31-14; 8:45 am]

BILLING CODE 4140-01-P